DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of August 18 through August 22, 2008.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) a loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e. , conditions within the industry are adverse).

Affirmative Determinations for Worker Adjustment Assistance

The following certifications have been issued. The date following the company name and location of each determination references the impact date for all workers of such determination.

The following certifications have been issued. The requirements of Section 222(a)(2)(A) (increased imports) of the Trade Act have been met.

None.

The following certifications have been issued. The requirements of Section 222(a)(2)(B) (shift in production) of the Trade Act have been met.

None.

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-63,754; Lane Furniture Industries, Inc., Belden, MS: July 28, 2007

TA-W-63,755; Meadwestvaco, Consumer and Office Products Div., Sidney, NY: July 9, 2007

TA-W-63,779; Wee Ones, Inc., Louisiana, MO: July 30, 2007

TA-W-63,798; Intelicoat Technologies Image Products Holdco, LLC, South Hadley, MA: August 1, 2007

TA-W-63,342; Viking and Worthington Steel Enterprise, LLC, Valley City, OH: May 7, 2007

TA-W-63, 518; WRR, Inc., d/b/a State Plating, Elwood, IN: June 3, 2007

TA-W-63,613; Swaim, Inc., High Point, NC: June 9, 2007

TA-W-63,700; NewPage Corporation, Kimberly Mill, FKA Stora Enso North America, Kimberly, WI: July 7, 2007

TA-W-63,724; JIT Manufacturing, Inc., Westfield, MA: July 16, 2007

TA-W-63,731; Progressive Molded Products, Inc., McAllen, TX: July 22, 2007

TA-W-63,732; Allied Tube and Conduit, A Division of Tyco International, Pine Bluff, AR: July 22, 2007

TA-W-63,810; Specialty Shearing and Dyeing Inc., Greenville, SC: August 4, 2007

TA-W-63,526; St. John Knits, Sample Manufacturing Department, Irvine, CA: June 11, 2007

The following certifications have been issued. The requirements of Section 222(a)(2)(B) (shift in production) and Section 246(a)(3)(A)(ii) of the Trade Act have been met.

TA-W-63,751; Comau, Inc., Novi Industries Division, Novi, MI: July 23, 2007

TA-W- 63,791; Samco Scientific, Personnel Plus, San Fernando, CA: July 28, 2007

TA-W-63,815; Krack Corporation, A Division of Ingersoll Rand, Addison, IL: July 28, 2007

TA-W-63,851; Fechheimer-Marvin Manufacturing, Martin, TN: August 11, 2007

TA-W-63,872; AS America, Inc., d/b/a American Strandard Brands, Paintsville, KY: July 13, 2008

TA-W-63,767; Pride Manufacturing Co., LLC, Guilford, ME: July 28, 2007

TA-W-63,804; Oxford Industries, Inc., Tupelo, MS: August 4, 2007

TA-W-63,654A; P.I., Inc., PICM Division, Athens, TN: June 27, 2007

TA-W-63,654; P.I., Inc., Carvcraft Division, Athens, TN: June 27, 2007

TA-W-63,738; Mountain View Fabricating, Mountain View, MO: July 23, 2007

TA-W-63,747; Hynix Semiconductor Manufacturing America, Eugene, OR: July 24, 2007

TA-W-63,787; Bowne of Atlanta, Inc., Atlanta, GA: July 29, 2007

TA-W-63,795; Hasco America, Inc., Arden, NC: August 1, 2007

TA-W-63,797A; Avaya, Incorporated, A Subsidiary of Sierra Holding Corp., Lincroft, NJ: August 1, 2007

TA-W-63,797; Avaya, Inc., Basking Ridge, NJ: August 1, 2007

TA-W-63,807; RFMD, Quality Assurance Group, Greensboro, NC: July 31, 2007

TA-W-63,830; Robert Bosch Tool Corporation, Leased Workers of Bartlett Business Services, Lincolnton, NC: August 5, 2007

TA-W-63,901; Southern Motion, Inc., Cut and Sew Department, Pontotoc, MS: August 18, 2007

TA-W-63,610; RFMD, Packaging Operations, Greensboro, NC: June 24, 2007

The following certifications have been issued. The requirements of Section 222(b) (supplier to a firm whose workers are certified eligible to apply for TAA) and Section 246(a)(3)(A)(ii) of the Trade Act have been met.

TA-W- 63,801; Dakkota Integrated Systems, LLC, Kirkwood, MO: August 1, 2007

TA-W-63,554; Cranford Woodcarving, Inc., Hickory, NC: November 23, 2007

TA-W-63,680; Tower Automotive Operations, LLC, Clinton Business Unit, Clinton Township, MI: July 11, 2007

TA-W-63,737; American & Efird, Inc., Nelson Plant 12, Mount Holly, NC: July 24, 2007

TA-W-63,792; Caraustar Mill Group,dba Chattanooga Paperboard, Chattanooga, TN: July 31, 2007

TA-W-63,879; Catawissa Lumber and Specialty Co.,West Jefferson Plant, West Jefferson, NC: August 14, 2007

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. The firm does not have a significant number of workers 50 years of age or older.

None.

The Department has determined that criterion (2) of Section 246 has not been met. Workers at the firm possess skills that are easily transferable.

None.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

None.

The investigation revealed that criteria (a)(2)(A)(I.B.) (Sales or production, or both, did not decline) and (a)(2)(B)(II.B.) (shift in production to a foreign country) have not been met.

None.

The investigation revealed that criteria (a)(2)(A)(I.C.) (increased imports) and (a)(2)(B)(II.B.) (shift in production to a foreign country) have not been met.

TA-W-63,574; Albany International Research Company, Mansfield, MA

TA-W-63,671; Helsel Lumber Mill, Inc., Duncansville, PA

TA-W-63,706; Carolina Wholesale Neon, Inc., Mt. Airy, NC

The workers' firm does not produce an article as required for certification under Section 222 of the Trade Act of 1974.

TA-W-63,709; RFMD, Transceiver Group, Employed at Scotts Valley, Greensboro, NC

TA-W-63,758; Lear Corporation, Quality Control & Inspection Dept., 950 Loma Verde, El Paso, TX

TA-W-63,813; Experian, Costa Mesa, CA

TA-W-63,847; Ramp Management, LLC, Fenton, MO

The investigation revealed that criteria of Section 222(b)(2) has not been met. The workers' firm (or subdivision) is not a supplier to or a downstream producer for a firm whose workers were certified eligible to apply for TAA.

None.

I hereby certify that the aforementioned determinations were issued during the period of August 18 through August 22, 2008. Copies of these determinations are available for inspection in Room C-5311, U.S. Department of Labor, 200 Constitution Avenue, NW., Washington, DC 20210 during normal business hours or will be mailed to persons who write to the above address.

Dated: August 27, 2008.
Erin FitzGerald,
Director, Division of Trade Adjustment Assistance.

[FR Doc. E8-20344 Filed 9-2-08; 8:45 am]

BILLING CODE 4510-FN-P